DEPARTMENT OF ENERGY

Federal Energy Regulatory Commission

[Project No. 2347-064]

Midwest Hydro, LLC; Notice of Reasonable Period of Time For Water Quality Certification Application

On March 24, 2025, Midwest Hydro, LLC (Midwest Hydro) submitted to the Federal Energy Regulatory Commission (Commission) notice from the Wisconsin Department of Natural Resources (Wisconsin DNR) that Wisconsin DNR received a request for a Clean Water Act section 401(a)(1) water quality certification as defined in 40 CFR 121.5, from Midwest Hydro, in conjunction with the above captioned project on January 31, 2025. Pursuant to the Commission's regulations,¹ we hereby notify Wisconsin DNR of the following:

¹ 18 CFR 4.34(b)(5)(iii).

Date of Receipt of the Certification Request: January 31, 2025.

Reasonable Period of Time to Act on the Certification Request: One year, January 31, 2026.

If Wisconsin DNR fails or refuses to act on the water quality certification request on or before the above date, then the certifying authority is deemed waived pursuant to section 401(a)(1) of the Clean Water Act, 33 U.S.C. 1341(a)(1).

Dated: April 22, 2025.
Debbie-Anne A. Reese,
Secretary.

[FR Doc. 2025-07291 Filed 4-25-25; 8:45 am]

BILLING CODE 6717-01-P